DEPARTMENT OF EDUCATION

Office of Special Education and Rehabilitative Services; Technology and Media Services for Individuals With Disabilities Program

AGENCY: Department of Education.

ACTION: Correction; Notice inviting applications for new awards for fiscal year (FY) 2011.

SUMMARY: On May 26, 2011, we published in the Federal Register (76 FR 30688) a notice inviting applications for new awards for FY 2011 under the Technology and Media Services for Individuals with Disabilities Program—Research and Development Center on the Use of Emerging Technologies to Improve Literacy Achievement for Students with Disabilities in Middle School (CFDA No. 84.327M) competition, authorized under the Individuals with Disabilities Education Act. Through this notice, we are adding a sentence to clarify the Project Period for projects funded under the priority announced in the notice inviting applications.

FOR FURTHER INFORMATION CONTACT: David Malouf, U.S. Department of Education, 400 Maryland Avenue, SW., room 4114, Potomac Center Plaza, Washington, DC 20202-2600. Telephone: (202) 245-6253.

If you use a telecommunications device for the deaf (TDD), call the Federal Relay Service (FRS), toll-free, at 1-800-877-8339.

SUPPLEMENTARY INFORMATION: We make the following correction:

On page 30691, second column, last paragraph, under Project Period, we add a second sentence that reads, “Applications must include plans for both the 36-month award and the 24-month extension.” The Project Period paragraph now correctly reads, “Up to 36 months with an optional additional 24 months based on performance. Applications must include plans for both the 36-month award and the 24-month extension.”

Accessible Format: Individuals with disabilities can obtain this document in an accessible format (e.g., braille, large print, audiotape, or computer diskette) on request to the contact person listed under FOR FURTHER INFORMATION CONTACT.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: July 6, 2011.
Alexa Posny,
Assistant Secretary for Special Education and Rehabilitative Services.

[FR Doc. 2011-17349 Filed 7-8-11; 8:45 am]

BILLING CODE 4000-01-P